DEPARTMENT OF TRANSPORTATION

Office of the Secretary

[Docket No. DOT-OST-2020-0023]

Regional Infrastructure Accelerator Program

AGENCY: Build America Bureau, U.S. Department of Transportation.

ACTION: Request for Information (RFI).

SUMMARY: The Fixing America's Surface Transportation Act (FAST),¹ enacted in December 2015, authorized the establishment of a Regional Infrastructure Accelerator Demonstration Program (the Program) to assist entities in developing improved infrastructure priorities and financing strategies for the accelerated development of a project that is eligible for funding under the Transportation Infrastructure Finance and Innovation Act (TIFIA) Program under Chapter 6 of Title 23, United States Code. The Further Consolidated Appropriations Act, 2020 enacted on December 20, 2019 appropriated $5 million for this Program.²

¹ Public Law 114-94, 129 Stat. 1312, 1435.

² Public Law 116-94, div. H, tit. I, H.R. 1865 at 413 (as enrolled December 20, 2019).

The Build America Bureau (the Bureau) of the U.S. Department of Transportation (Department or DOT) is seeking input from interested parties with the intent to gather as much information as possible before implementing the Program.

The Bureau is issuing this RFI on the most effective, transparent and expedient way to implement the Program. Information gleaned from this effort will help inform the development of the Program and approach to designating and funding Regional Infrastructure Accelerators that will: (1) Serve a defined geographic area; and (2) act as a resource to qualified entities in the geographic area in accordance with Section 1441 of the FAST Act.

DATES: Responses to this RFI are due no later than 11:59 p.m. 30 days after publication of this notice. The Bureau may hold an RFI information session(s) before the due date.

ADDRESSES: All responses MUST be submitted electronically via email to the Bureau at ria@dot.gov. Questions regarding the RFI may be submitted to the Bureau at ria@dot.gov.

FOR FURTHER INFORMATION CONTACT: For further information regarding this RFI please contact Sam Beydoun via email at sam.beydoun@dot.gov or via telephone at 202-366-2300. A TDD is available at 202-366-3993.

Background

The Bureau is responsible for driving transportation infrastructure development projects in the United States through innovative financing programs. Its mission is to provide access to the Bureau's credit programs in a streamlined, expedient and transparent manner. In accomplishing its mission, the Bureau also provides technical assistance and encourages innovative best practices in project planning, financing, delivery, and monitoring. The Bureau draws upon the full resources of the Department of Transportation to best utilize the expertise of the Department's Operating Administrations while promoting a culture of innovation and customer service.

The Transportation Infrastructure Finance and Innovation Act of 1998 ³ established a Federal credit program (TIFIA Program) for eligible transportation projects under which the Department may provide three forms of credit assistance—secured (direct) loans, loan guarantees, and standby lines of credit. The TIFIA Program's fundamental goal is to leverage federal funds by attracting substantial private and other non-Federal co-investment to support critical improvements to the Nation's surface transportation system. Eligible recipients of TIFIA credit assistance include State departments of transportation, transit operators, special authorities, local governments and private entities.

³ Codified as 23 U.S.C. 601-609.

Demonstration Program

Section 1441 of the FAST Act (https://www.transportation.gov/buildamerica/programs-and-services/regional-infrastructure-accelerators) authorizes the Program to assist in developing improved infrastructure priorities and financing strategies for the accelerated development of eligible projects. It is envisioned that Regional Infrastructure Accelerator(s) will act as a resource and help facilitate delivery of projects within a designated geographic region while promoting investment in covered infrastructure projects. The Further Consolidated Appropriations Act, 2020 appropriated $5 million to carry out the Program.

The goal of this RFI is to engage interested parties to obtain input into the most effective, transparent and expedient ways to structure and deliver the Program. Respondents to this RFI are encouraged to provide related information and answers to one or more of the following:

Structure

(1) What would be an effective form of the accelerator that could influence the development of infrastructure projects, and what type of structure and authority would be required for the establishment of a regional accelerator? Are there examples of such entities from around the country and abroad, or in other sectors that could be used as a model for the Program?

(2) What barriers such as regulatory, technical and institutional (public or private) would hinder implementation? What authority should the accelerator(s) have to effectively carry out its mission?

Geographic Diversity

(1) What is the most effective regional approach in achieving geographic diversity?

(2) What consideration should be given to urban versus rural areas, regional verses statewide or multi-State accelerators?

(3) Given the appropriated amount ($5 million), what would be the optimum range and most effective number of awards for regional accelerators? What would be an appropriate size program to consider in addressing the needs of priority infrastructure projects in rural areas?

Qualifications

(1) What resources, competencies and experience would be required from and within an accelerator? The approach should consider the resources required in accelerating the development of smaller rural projects and assisting inexperienced or under-resourced regions.

(2) If external resources and expertise would be contemplated, what would be the acquisition strategy while ensuring transparency and accountability?

(3) What is the best way to conduct an effective and transparent selection process? What evaluation criteria should the Bureau consider?

Approach

(1) What is the most effective approach to achieve the goals of the Program through an accelerator? In responding, please address considerations for the creation, selection and designation of regional accelerator(s).

(2) What actions are required to plan, implement and assess effectiveness of regional accelerators? If your response considers a phased approach, what would be the activities, resources and timelines for each phase? If new entities are considered, how much time would be needed to stand up a regional accelerator and what would be the major challenges?

(3) How could an accelerator leverage the Federal funding beyond the initial Federal support? If feasible, could a standalone, self-funded and sustainable model continue to deliver the intended benefits under the Program?

(4) Rural transportation infrastructure is of critical interest to the Department. How could Regional Infrastructure Accelerators assist in supporting priority programs in the region such as Rural Opportunities to Use Transportation for Economic Success (ROUTES) and the Bureau's Railroad Rehabilitation & Improvement Financing (RRIF) credit program that further accelerate projects?

Measures of Success

(1) How would Bureau assess and monitor the success of the program in accomplishing the goals and objectives?

(2) What would be appropriate key performance indicators that help measure the effectiveness of this demonstration program? Please consider the planned activities under the Program as indicated in Section 1441 of the FAST Act.

Other Considerations

(1) What else should the Bureau consider (in addition to the statutory criteria in Section 1441 of the FAST Act) and/or do to ensure an effective and successful regional accelerator program?

RFI Review

Individuals or entities wishing to respond to the RFI should state their role as well as knowledge and experience in developing or delivering such programs. The Bureau may request additional clarifying information from any or all respondents. Responses shall not exceed 10 pages and have no smaller than 12-point font with 1-inch margin all around. Any additional documents (e.g. white papers, brochure materials) would be considered. However, only the first 10 pages will be reviewed. The Bureau is not seeking and will not accept any unsolicited proposals through this RFI.

This RFI does NOT constitute a Request for Proposal and is not to be construed as a commitment, implied or otherwise, by the Bureau or the Department that a procurement action will be issued. Any response related to this RFI is not a request to be added to a bidders list or to receive a copy of a solicitation. There is no entitlement to payment for direct or indirect costs or charges arising as a result of any potential inquiries regarding this solicitation. The Bureau may not respond to any specific questions or comments submitted in response to this notice or information provided as a result of this notification. This RFI is solely for information and planning purposes and should not be construed as a commitment by Bureau or Department for any other purpose.

All interested parties are encouraged to respond fully to this RFI. The Bureau is in no way obligated by the information received and submission by respondents to the RFI is strictly voluntary. Not responding to the RFI does not preclude participation in any future procurement or grant program, if any is issued. However, the Bureau places tremendous value on information received and may utilize it to implement and finalize its Program development strategy.

ALL INFORMATION SUBMITTED SHALL BE UNCLASSIFIED. DO NOT SUBMIT ANY PROPRIATARY OR PRICING INFORMATION.

Issued in Washington, DC on February 24, 2020.
Morteza Farajian,
Executive Director.

[FR Doc. 2020-04099 Filed 2-27-20; 8:45 am]

BILLING CODE 4910-9X-P